DEPARMENT OF EDUCATION

National Advisory Committee on Institutional Quality and Integrity; Open Meeting

AGENCY: National Advisory Committee on Institutional Quality and Integrity (NACIQI), Office of Postsecondary Education, U.S. Department of Education.

ACTION: Announcement of meeting.

SUMMARY: This notice sets forth the agenda, time, and instructions to access or participate in the February 23-24, 2022 virtual meeting of the National Advisory Committee on Institutional Quality and Integrity (NACIQI) and provides information to members of the public regarding the meeting, including requesting to make oral comments. The notice of this meeting is required under section 10(a)(2) of the Federal Advisory Committee Act (FACA) and section 114(d)(1)(B) of the Higher Education Act of 1965, as amended (HEA).

DATES: The virtual NACIQI meeting will be held on February 23-24, 2022, from 10:00 a.m. to 5:00 p.m., Eastern Standard Time each day.

FOR FURTHER INFORMATION CONTACT: George Alan Smith, Executive Director/Designated Federal Official, NACIQI, U.S. Department of Education, 400 Maryland Avenue SW, Room 2C-159, Washington, DC 20202, telephone: (202) 453-7757. Email: George.Alan.Smith@ed.gov.

SUPPLEMENTARY INFORMATION: NACIQI's Statutory Authority and Function: NACIQI is established under section 114 of the HEA. NACIQI advises the Secretary of Education with respect to:

• The establishment and enforcement of the standards of accrediting agencies or associations under subpart 2, part H, Title IV of the HEA.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

You may register for the meeting on your computer using the link below. After you register you will receive a confirmation email containing personalized participation links for each day of the two-day meeting. Dial-in numbers may be requested on each day of the meeting between 8:45 a.m.-9:45 a.m. Eastern Standard Time by emailing Monica.Freeman@ed.gov.

Registration Link: https://naciqiwintermeeting.eventbrite.com.

Meeting Agenda: Agenda items for the February 23-24, 2022 meeting are listed below.

Application for Renewal of Recognition

1. American Podiatric Medical Association, Council on Podiatric Medical Education. Scope of recognition: The accreditation and preaccreditation (“Provisional Accreditation”) throughout the United States of freestanding colleges of podiatric medicine and programs of podiatric medicine, including first professional programs leading to the degree of Doctor of Podiatric Medicine.

2. The Council on Chiropractic Education. Scope of recognition: The accreditation of programs leading to the Doctor of Chiropractic degree and single-purpose institutions offering the Doctor of Chiropractic program.

3. Commission on English Language Program Accreditation. Scope of recognition: The accreditation of postsecondary, non-degree-granting English language programs and institutions in the United States including those programs offered via distance education.

4. Joint Review Committee on Education in Radiologic Technology. Scope of recognition: The accreditation of educational programs in radiography, magnetic resonance, radiation therapy, and medical dosimetry, including those offered via distance education, at the certificate, associate, and baccalaureate levels.

5. North Dakota Board of Nursing. Scope of recognition: Recognized for the Approval of Nurse Education in the State of North Dakota.

Administration Policy Update

Undersecretary James Kvaal will discuss the Administration's higher education policy priorities.

Accreditation Dashboard

NACIQI members will discuss the use of the Department of Education's accreditation dashboard.

NACIQI Policy Discussion

In addition to its review of accrediting agencies and State approval agencies for Secretarial recognition, there will be time for Committee discussions regarding any of the categories within NACIQI's statutory authority in its capacity as an advisory committee.

Public Comments

Submission of requests to make an oral comment regarding a specific accrediting agency under review, or to make an oral comment or written statement regarding other issues within the scope of NACIQI's authority: Opportunity to submit a written statement regarding a specific accrediting agency under review was solicited by a previous Federal Register notice published on January 22, 2021 (86 FR 6638). The period for submission of such statements is now closed. Additional written comments regarding a specific agency or state approval agency under review will not be accepted at this time. However, members of the public may submit written statements regarding other issues within the scope of NACIQI's authority for consideration by NACIQI in the manner described below.

Oral comments may not exceed three minutes. Oral comments about an agency's recognition when a compliance report has been required by the senior Department official or the Secretary must relate to the criteria for recognition cited in the senior Department official's letter that requested the report, or in the Secretary's appeal decision, if any. Oral comments about an agency seeking expansion of scope must be directed to the agency's ability to serve as a recognized accrediting agency with respect to the kinds of institutions or programs requested to be added. Oral comments about the renewal of an agency's recognition must relate to its compliance with the Criteria for the Recognition of Accrediting Agencies, which are available at http://www.ed.gov/admins/finaid/accred/index.html. Written statements and oral comments concerning NACIQI's work outside of a specific accrediting agency under review must be limited to the scope of NACIQI's authority as outlined under section 114 of the HEA.

To request to make a third-party oral comment of three minutes or less during the February 23-24, 2022 meeting, please follow either Method One or Method Two below. To submit a written statement concerning the work of NACIQI outside a specific accrediting agency under review, please follow Method One.

Method One: Submit a request by email to the ThirdPartyComments@ed.gov mailbox. Please do not send material directly to NACIQI members. Written statements concerning the work of NACIQI outside a specific accrediting agency under review and requests to make oral comment must be received by February 11, 2022 and include in the subject line “Oral Comment Request: (Agency name),” “Oral Comment Request: (Subject)” or “Written Statement: (Subject).” The email must include the name(s), title, organization/affiliation, mailing address, email address, and telephone number, of the person(s) submitting a written statement or requesting to speak. All individuals submitting an advance request in accordance with this notice will be afforded an opportunity to speak.

Method Two (Only available to those seeking to make oral comments): Register on February 23, 2022, from 8:45 a.m.-9:45 a.m. Eastern Standard Time, to make an oral comment during NACIQI's deliberations by sending an email to the ThirdPartyComments@ed.gov mailbox. The requestor must provide the subject on which he or she wishes to comment, in addition to his/her name, title, organization/affiliation, mailing address, email address, and telephone number. A total of up to fifteen minutes for each agenda item will be allotted for oral commenters who register on February 23, 2022 by 9:45 a.m. Eastern Standard Time. Individuals will be selected on a first-come, first-served basis. If selected, each commenter may not exceed three minutes.

Access to Records of the Meeting: The Department will post the official report of the meeting on the NACIQI website within 90 days after the meeting. In addition, pursuant to the FACA, the public may request to inspect records of the meeting at 400 Maryland Avenue SW, Washington, DC, by emailing aslrecordsmanager@ed.gov or by calling (202) 453-7415 to schedule an appointment. Senior Department official's (as defined in 34 CFR 602.3) decisions pursuant to 34 CFR 602.36 associated with all NACIQI Meetings can be found at the following website: https://surveys.ope.ed.gov/erecognition/PublicDocuments.

Reasonable Accommodations: The meeting weblink is accessible to individuals with disabilities. If you will need an auxiliary aid or service to participate in the meeting (e.g., interpreting service, assistive listening device, or materials in an alternate format), notify the contact person listed in this notice at least two weeks before the scheduled meeting date. We will attempt to meet a request received after that date, but we may not be able to make available the requested auxiliary aid or service because of insufficient time to arrange it.

Electronic Access to This Document: The official version of this document is the document published in the Federal Register. Free internet access to the official edition of the Federal Register and the Code of Federal Regulations is available via the Federal Digital System at www.govinfo.gov. At this site you can view this document, as well as all other documents of this Department published in the Federal Register, in text or Adobe Portable Document Format (PDF). To use PDF, you must have Adobe Acrobat Reader, which is available free at the site. You also may access documents of the Department published in the Federal Register by using the article search feature at www.federalregister.gov. Specifically, through the advanced search feature at this site, you can limit your search to documents published by the Department.

(Authority: 20 U.S.C. 1011c)

Annmarie Weisman,
Deputy Assistant Secretary for Policy, Planning and Innovation, Office of Postsecondary Education.

[FR Doc. 2022-01332 Filed 1-24-22; 8:45 am]

BILLING CODE P